DEPARTMENT OF ENERGY

Federal Energy Regulatory Commission

Combined Notice of Filings #2

Take notice that the Commission received the following electric corporate filings:

Docket Numbers: EC16-62-000.

Applicants: Wabash Valley Power Association, Inc., Peabody Electricity LLC, Lively Grove Energy Partners, LLC.

Description: Joint Application for Authorization under Section 203 of the Federal Power Act of Wabash Valley Power Association, Inc., et al.

Filed Date: 1/27/16.

Accession Number: 20160127-5239.

Comments Due: 5 p.m. ET 2/17/16.

Take notice that the Commission received the following electric rate filings:

Docket Numbers: ER15-704-007.

Applicants: Pacific Gas and Electric Company.

Description: Compliance filing: Compliance Filing to Revise CCSF WDT SA Appendices B, C and D (Tariff ID 2000.) to be effective 7/1/2015.

Filed Date: 1/27/16.

Accession Number: 20160127-5242.

Comments Due: 5 p.m. ET 2/17/16.

Docket Numbers: ER15-704-008.

Applicants: Pacific Gas and Electric Company.

Description: Compliance filing: Compliance Filing to Revise CCSF WDT SA Appendices B, C and D (Tariff ID 2100) to be effective 7/23/2015.

Filed Date: 1/27/16.

Accession Number: 20160127-5277.

Comments Due: 5 p.m. ET 2/17/16.

Docket Numbers: ER16-601-001.

Applicants: Midcontinent Independent System Operator, Inc.

Description: Tariff Amendment: 2016-01-27_Revisions to Sec 19.1.1.2—Pre-Cert TSRs Amendment to be effective 2/1/2016.

Filed Date: 1/27/16.

Accession Number: 20160127-5267.

Comments Due: 5 p.m. ET 2/17/16.

Docket Numbers: ER16-767-000.

Applicants: California Independent System Operator Corporation.

Description: Section 205(d) Rate Filing: 20160127 Competitive Solicitation Enhancements to be effective 3/28/2016.

Filed Date: 1/27/16.

Accession Number: 20160127-5250.

Comments Due: 5 p.m. ET 2/17/16.

Docket Numbers: ER16-768-000.

Applicants: RE Garland LLC.

Description: Initial rate filing: RE Garland LGIA Co-Tenancy Agreement Filing to be effective 3/28/2016.

Filed Date: 1/27/16.

Accession Number: 20160127-5252.

Comments Due: 5 p.m. ET 2/17/16.

Docket Numbers: ER16-769-000.

Applicants: RE Garland A LLC.

Description: Initial rate filing: RE Garland A LGIA Co-Tenancy Agreement Filing to be effective 3/28/2016.

Filed Date: 1/27/16.

Accession Number: 20160127-5253.

Comments Due: 5 p.m. ET 2/17/16.

Docket Numbers: ER16-770-000.

Applicants: Midcontinent Independent System Operator, Inc.

Description: Section 205(d) Rate Filing: 2016-01-27 Zonal Deliverability Benefits Filing to be effective 3/25/2016.

Filed Date: 1/27/16.

Accession Number: 20160127-5262.

Comments Due: 5 p.m. ET 2/17/16.

Docket Numbers: ER16-771-000.

Applicants: Midcontinent Independent System Operator, Inc., Consumers Energy Company.

Description: Section 205(d) Rate Filing: 2016-01-27_Consumers Energy Wholesale Distribution Service Agreements to be effective 4/1/2016.

Filed Date: 1/27/16.

Accession Number: 20160127-5270.

Comments Due: 5 p.m. ET 2/17/16.

Docket Numbers: ER16-772-000.

Applicants: PJM Interconnection, L.L.C.

Description: Tariff Cancellation: Notice of Cancellation of WMPA SA No. 2922, Queue No. W2-090 to be effective 3/21/2016.

Filed Date: 1/27/16.

Accession Number: 20160127-5296.

Comments Due: 5 p.m. ET 2/17/16.

Docket Numbers: ER16-773-000.

Applicants: Southern California Edison Company.

Description: Section 205(d) Rate Filing: SCE TOT Revision to be effective 1/1/2016.

Filed Date: 1/27/16.

Accession Number: 20160127-5300.

Comments Due: 5 p.m. ET 2/17/16.

Docket Numbers: ER16-774-000.

Applicants: PJM Interconnection, L.L.C.

Description: Tariff Cancellation: Notice of Cancellation of WMPA SA No. 3512, Queue No. X2-038 to be effective 3/14/2016.

Filed Date: 1/27/16.

Accession Number: 20160127-5304.

Comments Due: 5 p.m. ET 2/17/16.

Docket Numbers: ER16-775-000.

Applicants: 3 Phases Renewables, Inc.

Description: Baseline eTariff Filing: Baseline New to be effective 1/28/2016.

Filed Date: 1/27/16.

Accession Number: 20160127-5314.

Comments Due: 5 p.m. ET 2/17/16.

Docket Numbers: ER16-776-000.

Applicants: PacifiCorp.

Description: Section 205(d) Rate Filing: Pavant Solar III E&P Agreement to be effective 1/21/2016.

Filed Date: 1/27/16.

Accession Number: 20160127-5372.

Comments Due: 5 p.m. ET 2/17/16.

Docket Numbers: ER16-777-000.

Applicants: AES Beaver Valley, LLC.

Description: Tariff Cancellation: AES Beaver Valley Cancellation Filing to be effective 1/28/2016.

Filed Date: 1/27/16.

Accession Number: 20160127-5377.

Comments Due: 5 p.m. ET 2/17/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 27, 2016.
Nathaniel J. Davis, Sr.,
Deputy Secretary.

[FR Doc. 2016-01913 Filed 2-2-16; 8:45 am]

BILLING CODE 6717-01-P